ELECTION ASSISTANCE COMMISSION

Publication of State Plan Pursuant to the Help America Vote Act

AGENCY: U.S. Election Assistance Commission (EAC).

ACTION: Notice.

SUMMARY: The U.S. Election Assistance Commission (EAC) received a revised HAVA State Plan from the State of West Virginia in accordance with the Help America Vote Act of 2002 (HAVA). Pursuant to HAVA, the EAC is required to publish the revised HAVA State Plan in the Federal Register for a 30-day period before the proposed revisions can take effect. The revised HAVA State Plan will be posted on the EAC website and available for review.

DATES: Revisions become applicable after 30-day publication in the Federal Register.

FOR FURTHER INFORMATION CONTACT: Mark Abbott, Telephone 301-563-3956 or 1-866-747-1471 (toll-free).

Submit Comments: Any comments regarding the plans published herewith should be made in writing to the chief election official of the individual State at the address listed below.

SUPPLEMENTARY INFORMATION: The EAC in accordance with the Help America Vote Act of 2002 (HAVA) (52 U.S.C. 21005(b)) published in the Federal Register the original HAVA State plans filed by the fifty States, the District of Columbia and the territories of American Samoa, Guam, Puerto Rico, and the U.S. Virgin Islands (hereinafter, the States). See 69 FR 14002. HAVA anticipated that States would change or update their plans from time to time pursuant to Section 254(a)(11) through (13) and, thus, requires the EAC to publish such updates in the Federal Register. In accordance with HAVA Section 254(a)(12), all the State plans submitted for publication provide information on how the respective State succeeded in carrying out its previous State plan.

West Virginia confirms that its amendments to the State plan were developed and submitted to public comment in accordance with HAVA Sections 254(a)(11), 255, and 256. (52 U.S.C. 21004-21006).

Upon the expiration of thirty days from May 30, 2018, the State is eligible to implement the changes addressed in the plan that is published herein, in accordance with HAVA Section 254(a)(11)(C). EAC wishes to acknowledge the effort that went into revising this State plan and encourages further public comment, in writing, to the State election official listed below.

Chief State Election Official

Mr. Donald Kersey, III, Elections Director & Deputy Legal Counsel, 1900 Kanawha Boulevard E, State Capital Room 157-K, Charleston, West Virginia 25305-0770. (304) 558-6000 Fax: (304) 588-0900.

Thank you for your interest in improving the voting process in America.

Dated: May 23, 2018.
Bryan Whitener,
Director of National Clearinghouse on Elections, U.S. Election Assistance Commission.

[FR Doc. 2018-11498 Filed 5-29-18; 8:45 am]

BILLING CODE 4810-71-P